FEDERAL HOUSING FINANCE AGENCY

12 CFR Part 1215

RIN 2590-AA51

Production of FHFA Records, Information, and Employee Testimony in Legal Proceedings; Correction

AGENCY: Federal Housing Finance Agency.

ACTION: Proposed rule; correction.

SUMMARY: This document corrects the preamble to a proposed rule published in the Federal Register of February 8, 2013, regarding Production of FHFA Records, Information, and Employee Testimony in Legal Proceedings.

DATES: The closing date for the comment period in the proposed rule published February 8, 2013, at 78 FR 9336, is April 9, 2013.

FOR FURTHER INFORMATION CONTACT: James P. Jordan, Senior Counsel, 202-649-3075 (not a toll-free number), Federal Housing Finance Center, Constitution Center, Eighth Floor, 400 Seventh Street SW., Washington, DC 20024. The telephone number for the Telecommunications Device for the Hearing Impaired is 800-877-8339.

SUPPLEMENTARY INFORMATION:

Correction

In proposed rule FR Doc. 2013-02908, beginning on page 9336 in the issue of February 8, 2013, make the following correction in the DATES section. On page 9336, the DATES section should read: “Comments must be received on or before April 9, 2013.”

Dated: February 12, 2013.
Edward J. DeMarco,
Acting Director, Federal Housing Finance Agency.

[FR Doc. 2013-03585 Filed 2-14-13; 8:45 am]

BILLING CODE 8070-01-P